DEPARTMENT OF HEALTH AND HUMAN SERVICES

National Institutes of Health

National Institute on Aging; Notice of Closed Meeting

Pursuant to section 1009 of the Federal Advisory Committee Act, as amended, notice is hereby given of the following meeting.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Advisory Council on Aging National Advisory Council on Aging.

Date: September 18-19, 2024.

Closed: September 18, 2024, 3:00 p.m. to 5:00 p.m.

Agenda: To review and evaluate review of Applications.

Place: National Institutes of Health Natcher Building 45 Natcher Drive Bethesda, MD 20892.

Open: September 19, 2024, 9:00 a.m. to 1:10 p.m.

Agenda: Call to Order and Director's Status Report; Staff Introduction; Future Meeting Dates, Consideration of Minutes from Last Meeting; Task Force on Minority Aging Research; Working Group on Program and NOFO Concept Clearances; A Word from Retiring Members, Dr. Manly and Weir; Program Highlights; Council Speaker, Dr. Matthew Gillman, M.D., SM.; Meeting Adjourned.

Place: National Institutes of Health, Natcher Building 45, Natcher Drive, Bethesda, MD 20892.

Contact Person: Kenneth Santora, Director, Office of Extramural Activities, National Institute on Aging, National Institutes of Health, Gateway Building, 7201 Wisconsin Avenue, Bethesda, MD 20814, (301) 496-9322, ksantora@nih.gov.

Information is also available on the Institute's/Center's home page: www.nia.nih.gov/about/naca, where an agenda and any additional information for the meeting will be posted when available.

(Catalogue of Federal Domestic Assistance Program Nos. 93.866, Aging Research, National Institutes of Health, HHS)

Dated: October 27, 2023.
Miguelina Perez,
Program Analyst, Office of Federal Advisory Committee Policy.

[FR Doc. 2023-24134 Filed 11-1-23; 8:45 am]

BILLING CODE 4140-01-P